DEPARTMENT OF LABOR

Employment and Training Administration

[TA-W-51,093]

Mitten Manufacturing, Syracuse, NY; Notice of Termination of Investigation

Pursuant to section 221 of the Trade Act of 1974, an investigation was initiated on March 7, 2003 in response to a worker petition which was filed by a company official on behalf of workers at Mitten Manufacturing, Syracuse, New York.

The petitioner has requested that the petition be withdrawn. Consequently, further investigation in this case would serve no purpose, and the investigation has been terminated.

Signed in Washington, DC, this 18th day of March 2003.
Linda G. Poole,
Certifying Officer, Division of Trade Adjustment Assistance.

[FR Doc. 03-7898 Filed 4-1-03; 8:45 am]

BILLING CODE 4510-30-P